DEPARTMENT OF HEALTH AND HUMAN SERVICES

National Institutes of Health

Eunice Kennedy Shriver National Institute of Child Health & Human Development; Notice of Closed Meetings

Pursuant to section 10(d) of the Federal Advisory Committee Act, as amended, notice is hereby given of the following meetings.

The meetings will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: National Institute of Child Health and Human Development Initial Review; Group Health, Behavior, and Context Subcommittee.

Date: June 10, 2019.

Time: 8:00 a.m. to 5:00 p.m.

Agenda: To review and evaluate grant applications.

Place: Bethesda Residence Inn Downtown, 7335 Wisconsin Ave., Bethesda, MD 20814.

Contact Person: Kimberly L. Houston, MD, Scientific Review Officer, Eunice Kennedy Shriver National Institute of Children Health and Human Development, 6701B Rockledge Drive, Room 2127B, Bethesda, MD 20892, 301-827-4902, kimberly.houston@nih.gov.

Name of Committee: National Institute of Child Health and Human Development Initial Review; Pediatrics Subcommittee.

Date: June 14, 2019.

Time: 8:00 a.m. to 5:00 p.m.

Agenda: To review and evaluate grant applications.

Place: Bethesda Residence Inn Downtown, 7335 Wisconsin Ave., Bethesda, MD 20814.

Contact Person: Rita Anand, Ph.D., Scientific Review Officer, Eunice Kennedy Shriver National Institute of Children Health and Human Development, 6701B Rockledge Drive, Bethesda, MD 20892, (301) 496-1487, anandr@mail.nih.gov.

Name of Committee: National Institute of Child Health and Human Development Initial Review, Obstetrics and Maternal-Fetal Biology Subcommittee.

Date: June 21, 2019.

Time: 8:00 a.m. to 5:00 p.m.

Agenda: To review and evaluate grant applications.

Place: Bethesda Residence Inn Downtown, 7335 Wisconsin Ave., Bethesda, MD 20814.

Contact Person: Peter Zelazowski, Ph.D., Scientific Review Officer, Eunice Kennedy Shriver National Institute of Children Health and Human Development, 6701B Rockledge Drive, Bethesda, MD 20892, 301-435-6902, PETER.ZELAZOWSKI@NIH.GOV.

Name of Committee: National Institute of Child Health and Human Development Initial Review; Reproduction, Andrology and Gynecology (RAG) Subcommittee.

Date: June 28, 2019.

Time: 8:00 a.m. to 5:00 p.m.

Agenda: To review and evaluate grant applications.

Place: Bethesda North Marriott Hotel & Conference Center, 5701 Marinelli Road, Bethesda, MD 20852.

Contact Person: Helen Huang, Scientific Review Officer, Eunice Kennedy Shriver National Institute of Children Health and Human Development, 6701B Rockledge Drive, Bethesda, MD 20892, 301-435-8207, helen.huang@nih.gov.

Name of Committee: National Institute of Child Health and Human Development Special Emphasis Panel; HEAL Initiative: Antenatal Opioid Exposure Longitudinal Study Consortium (PL1 Clinical Trial Not Allowed).

Date: June 18, 2019.

Time: 8:00 a.m. to 5:00 p.m.

Agenda: To review and evaluate grant applications.

Place: Residence Inn Bethesda, 7335 Wisconsin Avenue, Bethesda, MD 20814.

Contact Person: Peter Zelazowski, Ph.D., Scientific Review Officer, Eunice Kennedy Shriver National Institute of Children Health and Human Development, 6701B Rockledge Drive, Bethesda, MD 20892, 301-435-6902, peter.zelazowski@nih.gov.

(Catalogue of federal Domestic Assistance Program Nos. 93.864, Population Research; 93.865, Research for Mothers and Children; 93.929, Center for Medical Rehabilitation Research; 93.209, Contraception and Infertility Loan Repayment Program, National Institutes of Health, HHS)

Dated: May 7, 2019.
Ronald J. Livingston, Jr.,
Program Analyst, Office of Federal Advisory Committee Policy.

[FR Doc. 2019-09735 Filed 5-10-19; 8:45 am]

BILLING CODE 4140-01-P